DEPARTMENT OF VETERANS AFFAIRS

[OMB Control No. 2900-0784]

Agency Information Collection Activity: Application for Pre-Need Determination of Eligibility for Burial

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before February 9, 2026.

ADDRESSES: Comments must be submitted through www.regulations.gov.

FOR FURTHER INFORMATION CONTACT:

Program-Specific information: Brian Hurley, 202-957-2093, Brian.Hurley1@va.gov.

VA PRA information: Dorothy Glasgow, (202) 461-1084, vapra@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: Application for Pre-Need Determination of Eligibility for Burial, VA Form 40-10007.

OMB Control Number: 2900-0784.

Type of Review: Revision of a currently approved collection.

Abstract: This information (VA Form 40-10007) is used to collect information from Veterans and service members who wish to determine their eligibility for burial in a VA national cemetery prior to their time of need for planning purposes. The data will be used for this purpose. An agency may not conduct or sponsor, and a person is not required to respond to a collection of information unless it displays a currently valid OMB control number. The burden increased since the previous approval due to an increase in the number of respondents and responses. The number of respondents increased to 50,000 from the previous approval of 47,400 in 2023. Due to more respondents and an increase in the hourly wage rate, the cost to respondents increased from $442,558 to $524,667 resulting in an increase of $82,109 in respondent cost. The cost to the Federal Government increased due to the annual responses increasing since the previous approval.

Affected Public: Individuals and households.

Estimated Annual Burden: 16,667 hours.

Estimated Average Burden per Respondent: 20 minutes.

Frequency of Response: One-time.

Estimated Number of Respondents: 50,000.

Authority: 44 U.S.C. 3501 et seq.

Shunda Willis,
Acting, VA PRA Clearance Officer, (Alt.) Office of Information Technology, Data Governance Analytics, Department of Veterans Affairs.

[FR Doc. 2025-22436 Filed 12-9-25; 8:45 am]

BILLING CODE 8320-01-P